ENVIRONMENTAL PROTECTION AGENCY

[EPA:HO-OEl-2015-0200; FRL-9950-06-OEI]

Privacy Act; System of Records: Establishment of New Passport Expiration Notification System (PENS)

AGENCY: Environmental Protection Agency (EPA).

ACTION: Notice.

SUMMARY: Pursuant to the provisions of the Privacy Act of 1974 (5 U.S.C. 552a), the Office of International and Tribal Affairs is giving notice that it proposes to create a new system of records for the Passport Expiration Notification System (PENS). This system of records contains personally identifiable information (Pll) collected from no-fee passports for the purpose of tracking the status of government passports. The information maintained in the system will be the passport holder's name, place of birth, passport number and passport issue and expiration dates.

EFFECTIVE DATES: Persons wishing to comment on this system of records notice must do so by [40 days after publication in the Federal Register].

ADDRESSES: Submit your comments, identified by Docket ID no. EPA-HQ-OEl-2015-0200, by one of the following methods:

www .regulations.gov : Follow the online instructions for submitting comments.

Email: oei.docket@epa.gov.

Fax: 202-566-1752.

Mail: OEI Docket, Environmental Protection Agency, Mailcode: 2822T, 1200 Pennsylvania Ave., Washington, DC 20460.

Hand Delivery: OEI Docket, EPA/DC, EPA West Building, Room 3334, 1301 Constitution Ave. NW., Washington, DC. Such deliveries are only accepted during the Docket's normal hours of operation, and special arrangements should be made for deliveries of boxed information.

Instructions: Direct your comments to Docket ID No. EPA-HQ-OEl-2015-0200.

EPA's policy is that all comments received will be included in the public docket without change and may be made available online at www.regulations.gov, including any personal information provided, unless the comment includes information claimed to be Confidential Business Information (CBI) or other information for which disclosure is restricted by statute. Do no submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment with any disk or CD-ROM you submit. If EPA cannot read your comment due to technical difficulties and cannot contact you for clarification, EPA may not be able to consider your comment. Electronic files should avoid the use of special characters, and form of encryption, and be free of any defects or viruses. For additional information about EPA's public docket visit the EPA Docket Center homepage at http://www.epa.gov.

Docket: All documents in the docket are listed in the www .regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, and 1301 Constitution Ave. NW., Washington, DC. The Public Reading Room is open from 8:30 a.m. to 4:30 p.m., Monday through Friday excluding legal holidays. The telephone number for the Public Reading Room is (202) 566-1744, and the telephone number for the OEI Docket is (202) 566-1745.

FOR FURTHER INFORMATION CONTACT: Pamela Younger, Office of Management and International Services, Office of International and Tribal Affairs, 1300 Pennsylvania Ave. NW., 20004, telephone number: 202-564-6631; fax number: 202-565-2427; email address: rhones-younger.pamela@epa.gov.

SUPPLEMENTARY INFORMATION:

General Information

The U.S. Environmental Protection Agency (EPA) plans to create a Privacy Act system of records for the Passport Expiration Notification System (PENS). The information collected in this system will be used for the purpose of requesting and obtaining country clearances for EPA staff traveling to foreign countries to conduct official government business. The information maintained in the system will be the passport holder's name, place of birth, passport number and passport issue and expiration dates.

The information is accessed through an electronic means which has its own authentication process established by OEI. Only certified Passport Agents in the OITA Travel Office, and in Region 5 and the OITA Database Administrator will have access to the information contained in the database. No-fee Passports containing personal information are kept in a locked filing cabinet. Physical access to the filing cabinet is limited to authorized personnel employees with office keys.

Dated: June 22, 2016.
Ann Dunkin,
Chief Information Officer.

EPA-72

System Name:

Passport Expiration Notification System (PENS)

System Location:

US EPA, 1200 Pennsylvania Ave. NW., Washington, DC 20460.

Categories of Individuals Covered by the System:

EPA International Travelers who apply for a no-fee passport for the purpose of conducting official government business in foreign countries.

Categories of Records in the System:

The passport holder's name, place of birth, passport number and issue and expiration dates.

Authority for Maintenance of the System (includes any revisions or amendments):

E.O. 11295 22 U.S.C. 211(a); 22 CFR 51.22(b).

Purpose(s):

The primary purpose of this system is to track the status of no-fee passports, including the issuance date, expiration date, and current location and to request and obtain country clearances for EPA staff traveling to foreign countries to conduct official government business.

Routine Uses of Records Maintained in the System, Including Categories of General Routine Uses applicable to more than one system and includes:

https://www.federaIregister.gov/articles/2008/01/14/E8-445/amendment-to-generalroutine-uses

Users, and the Purposes of Such Uses: General Routine Uses

A., C., E., J. and L apply to the system.

Policies and Practices for Storing, Retrieving, Accessing, Retaining, and Disposing of Records in the System:

Storage:

Electronic records are maintained in an electronic format. Passports are maintained in their physical format in a locked filing cabinet, in a locked room.

Retrievability:

Records are retrieved by all or a part of the person's name, place of birth, and/or passport number.

Safeguards:

Computer-stored information is protected in accordance with the Agency's security requirements. Access to the information in the system is limited to authorized Agency personnel who administer the program. No external access to the system is allowed. Paper files are kept in a locked filing cabinet in a locked room. Only accessed by three employees.

Retention and Disposal:

EPA Records Schedule 1010 NARA Disposal Authority: DAA-0412-2012 -0007-0003. Closed and returned to the Department of State when employee separates, retires, transfers to a new agency, or job duties no longer require international travel.

System Manager(s) and Address:

PENS Database Manager, Office of Management and International Services, Office of International and Tribal Affairs, (MD-2680R) 1200 Pennsylvania Ave. NW., Washington, DC 20460.

Notification Procedure:

Any individual who wants to know whether this system of records contains a record about him or her, who wants access to his or her record, or who wants to contest the contents of a record, should make a written request to the EPA FOIA Office, Attn: Privacy Act Officer, MC 2822T, 1200 Pennsylvania Ave. NW., Washington, DC 20460.

Record Access Procedure:

Request for access must be made in accordance with the procedures described in EPA's Privacy Act regulations at 40 CFR part 16. Requesters will be required to provide adequate identification, such as a driver's license, employee identification or other identifying document.

Contesting Records Procedures:

Requests for correction or amendment must identify the record to be changed and the corrective action sought. Complete EPA Privacy Act procedures are described in EPA's Privacy Act regulations at 40 CFR part 16.

Record Source Categories:

Individual Passport applicants U.S. Department of State.

System Exempted from Certain Provisions of the Privacy Act:

None.

[FR Doc. 2016-18136 Filed 7-29-16; 8:45 am]

BILLING CODE 6560-50-P